DEPARTMENT OF THE INTERIOR

Fish and Wildlife Service

Information Collections Submitted to the Office of Management and Budget for Approval Under the Paperwork Reduction Act

AGENCY: Fish and Wildlife Service, Interior.

ACTION: Notice of information collection; request for comments.

SUMMARY: The collection of information described below has been submitted to the Office of Management and Budget (OMB) for approval under the provisions of the Paperwork Reduction Act of 1995. Copies of the specific information collection requirements, related forms and explanatory material may be obtained by contacting the Service Information Collection Clearance Officer at the address provided below.

DATES: Consideration will be given to all comments received on or before July 1, 2002. OMB has up to 60 days to approve or disapprove information collection but may respond after 30 days. Therefore, to ensure maximum consideration, OMB should receive public comments by the above referenced date.

ADDRESSES: Comments and suggestions on the requirement should be sent to Rebecca Mullin, Service Information Collection Clearance Officer, U.S. Fish and Wildlife Service, ms 860-ARLSQ, 1849 C Street, NW, Washington, DC 20240.

FOR FURTHER INFORMATION CONTACT: To request a copy of the information collection request, explanatory information and related forms, contact Rebecca A. Mullin at 703/358-2287, or electronically to rmullin@fws.gov.

SUPPLEMENTARY INFORMATION: The OMB regulations at 5 CFR part 1320, which implement provisions of the Paperwork Reduction Act of 1995 (Pub. L. 104-13), require that interested members of the public and affected agencies have an opportunity to comment on information collection and recordkeeping activities (see 5 CFR 1320.8(d)). On Friday, December 21, 2001, the U.S. Fish and Wildlife Service (Service) was given emergency approval by OMB for collection of information in order to quickly implement the grant program to be conducted under the Neotropical Migratory Bird Conservation Act (Pub. L. 106-247). The assigned OMB information collection control number is 1018-0113, and temporary approval expires June 30, 2002. The Service is requesting a three year term of approval for this information collection activity. An agency may not conduct or sponsor, and a person is not required to respond to, a collection of information unless it displays a currently valid OMB control number.

Comments are invited on: (1) Whether the collection of information is necessary for the proper performance of the functions of the agency, including whether the information will have practical utility; (2) the accuracy of the agency's estimate of the burden of the collection of information; (3) ways to enhance the quality, utility and clarity of the information to be collected; and (4) ways to minimize the burden of the collection of information on respondents.

Title: Information Collection In Support of Grant Programs Authorized by the Neotropical Migratory Bird Conservation Act of 2000 (NMBCA).

Approval Number: 1018-0113.

Service Form Number(s): N/A.

Description and Use: The purposes of the Neotropical Migratory Bird Conservation Act (Act) are to: (1) Perpetuate healthy populations of neotropical migratory birds; (2) assist in the conservation of these birds by supporting conservation initiatives in the United States, Latin America, and the Caribbean; and (3) provide financial resources and foster international cooperation for those initiatives.

The Act authorizes $5 million for this program, and Congress appropriated $3 million for Fiscal Year 2002. At a minimum, 75% of this money will be available for projects outside the United States. No maximum request has been established. The match ratio is 3:1, calculated in U.S. dollars. That is, every grant dollar requested under the Act must be matched by 3 partner dollars. U.S.-Federal funds may be used to support projects, but may not be used as match. Partner funds for U.S. projects must be in cash, whereas funds for projects in Latin America and the Caribbean may be cash or in-kind contribution.

Projects may be located in the United States and in all countries of Latin America and the Caribbean, with the exception of Cuba. Projects in Canada are not eligible for this funding. An applicant may be an individual, corporation, partnership, trust, association, other private entity, government agency in the U.S. or a foreign country, or an international organization.

The Act describes activities which may be carried out under the Act, including: protection and management of neotropical migratory bird populations; maintenance, management, protection, and restoration of neotropical migratory bird habitat; research and monitoring; law enforcement; and community outreach and education.

The Act authorizes the Secretary of the Interior, who has principal responsibility for implementation, to convene an advisory group consisting of individuals representing public and private organizations actively involved in the conservation of neotropical migratory birds to assist with and provide advice on proposal funding. The Federal Advisory Committee Act provisions do not apply to this advisory group.

Competing for grant funds involves applications from partnerships that describe in substantial detail project locations and other characteristics. The grant program, i.e., competition for funds, for this Act is currently being implemented by the Division of Bird Habitat Conservation, U.S. Fish and Wildlife Service, which is publishing and distributing instructional materials that assist the applicants in formulating project proposals for advisory group consideration. The instructional booklets and other instruments, e.g., Federal Register notices on request for proposals, are the basis for this information collection request for OMB clearance. Information collected under this program is used to respond to such needs as: Audits, program planning and management, program evaluation, Government Performance and Results Act reporting, Standard Form 424 (Application for Federal Assistance), grant agreements, budget reports and justifications, public and private requests for information, data provided to other programs for database on similar programs, Congressional inquiries and reports required by NMBCA, etc.

In summary, information collection under these programs is required to obtain a benefit, i.e., a cash reimbursable grant that is given competitively to some applicants based on eligibility and relative scale of resource values involved in the projects. The information collection is subject to the Paperwork Reduction Act requirements for such activity, which includes soliciting comments from the general public regarding the nature and burden imposed by the collection.

Frequency of Collection: Occasional. The Neotropical Migratory Bird Conservation Act grant program currently has one project proposal submissions window per year.

Description of Respondents: Households and/or individuals; business and/or other for-profit; not-for-profit institutions; farms; Federal Government; and State, local and/or Tribal governments.

Estimated Completion Time: The reporting burden, or time involved in writing project proposals, is estimated to be 40 hours.

Number of Respondents: It is estimated that approximately 200 proposals will be submitted each year for the Neotropical Migratory Bird Conservation Act grant program.

Dated: April 26, 2002.
Rebecca A. Mullin,
Information Collections, Officer, Fish and Wildlife Service.

[FR Doc. 02-10691 Filed 4-29-02; 8:45 am]

BILLING CODE 4310-55-M